DEPARTMENT OF DEFENSE

Department of the Army; Corps of Engineers

Notice of Availability of the Final Programmatic Environmental Impact Statement for the Mechanical and Artificial Creation and Maintenance of Emergent Sandbar Habitat in the Riverine Segments of the Upper Missouri River, Missouri River Basin, United States

AGENCY: Department of the Army, U.S. Army Corps of Engineers, DoD.

ACTION: Notice of Availability.

SUMMARY: In accordance with the National Environmental Policy Act of 1969, as amended, the U.S. Army Corps of Engineers intends to file a Final Programmatic Environmental Impact Statement (FPEIS) for the Mechanical and Artificial Creation and Maintenance of Emergent Sandbar Habitat on the Riverine Segments of the Upper Missouri River with the U.S. Environmental Protection Agency. The FEIS is available for final public review. Details on the proposed action, location and areas of environmental concern addressed in the FPEIS are provided below under SUPPLEMENTARY INFORMATION.

DATES: The review period will be open 30 days from the date of this notice. The Record of Decision is anticipated to be issued in August, 2011.

ADDRESSES: Written comments should be sent to: Department of the Army; Corps of Engineers, Omaha District; CENWO-PM-AC; ATTN: Emergent Sandbar Habitat Programmatic EIS; 1616 Capitol Avenue; Omaha, NE 68102-4901, or e-mailed to: Cynthia.s.upah@usace.army.mil. Comments must be postmarked, e-mailed, or otherwise submitted no later than June 13, 2011. Copies of the FPEIS have been sent to all agencies and individuals who participated in the scoping process or public hearings and to those requesting copies. The FEIS is available online at: http://www.moriverrecovery.org/mrrp/MRRP_PUB_DEV.download_documentation_peis. To obtain a copy, please contact Ms. Cynthia Upah.

FOR FURTHER INFORMATION CONTACT: Ms. Cynthia Upah, Project Manager, by telephone: (402) 995-2672, by mail: 1616 Capitol Avenue, Omaha, NE 68102-4901, or by e-mail: Cynthia.s.upah@usace.army.mil. For inquires from the media, please contact the USACE Omaha District Public Affairs Officer (PAO), Ms. Monique Farmer by telephone: (402) 995-2416, by mail: 1616 Capitol Avenue, Omaha, NE 68102, or by e-mail: Monique.l.farmer@usace.army.mil.

SUPPLEMENTARY INFORMATION: 1. Background. The Emergent Sandbar Habitat (ESH) program is being implemented by the U.S. Army Corps of Engineers (Corps) for the benefit of the interior population of the Interior least tern (least tern) and the northern Great Plains piping plover (piping plover). This implementation program resulted from a Biological Opinion (BiOp) issued by the U.S. Fish and Wildlife Service (USFWS) in which the Reasonable and Prudent Alternative (RPA) called for the Corps to provide sufficient ESH acreage in order to meet biological metrics (fledge ratios) to avoid jeopardizing continued existence of the species, as defined by the Endangered Species Act (ESA).

The FPEIS is needed to provide National Environmental Policy Act (NEPA) coverage for the mechanical and artificial construction of ESH in the riverine segments of the Upper Missouri River, pursuant to the 2003 BiOp Amendment RPA IV(b) 3, and to compare impacts among a range of alternatives. The goal is to inform the selection of a preferred alternative that allows for the creation and replacement of sufficient habitat to support tern and plover populations on the Missouri River in a safe, efficient and cost-effective manner that minimizes negative environmental consequences.

Alternatives to the proposed project that are considered in the FPEIS include (1) no action, including existing program activities and no action; (2) and 6 action alternatives of various acreage creation. Environmental issues addressed in the FPEIS include hydrology, water quality, aggradation and degradation, biological resources, air quality, noise and recreation.

After detailed consideration of the environmental and social impacts, and cumulative effects, of the Alternatives, the Corps has identified an Adaptive Management Implementation Process (AMIP) as the preferred alternative, and not one of the specific acreage alternatives. The key aspect of the AMIP is that, rather than selecting a specific acreage alternative and pursuing such construction, actions would be progressively implemented with the focus on monitoring a combination of biological and physical metrics (measurements). Implementation of progressively larger acreage amounts of habitat would continue until the desired biological response is attained and sustained.

However, the exact number of acres needed to be constructed and maintained is uncertain at this time. Based on the analysis in the PEIS, the impacts of the larger alternatives (3, 2 and 1) are deemed to be moderate to high. The Corps has chosen a maximum construction ceiling of Alternative 3.5 (4,370 acres) at this time. Impacts of lesser alternatives (3.5, 4 and 5) are deemed to be moderate to low. This checkpoint of Alternative 3.5 is proposed because it represents a midrange of habitat available at a time when the birds were productive (biological metric), and it is anticipated that a positive, sustainable biological response will be met before fully implementing up to Alternative 3.5. If Alternative 3.5 is fully implemented and the birds are not meeting biological metrics, the Corps can consider continuing to higher acreage alternatives or look at other methodologies. Appropriate coordination and disclosure would be pursued if Alternative 3.5 was exceeded (potential amended Record of Decision or additional NEPA).

2. Document Availability. The Emergent Sandbar Habitat Programmatic EIS is available online at http://www.moriverrecovery.org/mrrp/MRRP_PUB_DEV.download_documentation_peis, or see the ADDRESSES section. For more information about the Emergent Sandbar Habitat program, please visit http://www.moriverrecovery.org under “BiOp/Mit Efforts.”

Dated: May 9, 2011.
Kayla Eckert Uptmor,
Chief Planning Branch, Omaha District.

[FR Doc. 2011-12511 Filed 5-19-11; 8:45 am]

BILLING CODE 3720-58-P